DEPARTMENT OF DEFENSE

Office of the Secretary

Submission for OMB Review; Comment Request

ACTION: Notice.

The Department of Defense has submitted to OMB for clearance, the following proposal for collection for information under the provisions of the Paperwork Reduction Act (44 U.S.C. Chapter 35).

Title, Form, and OMB Number: Customer Comment Card; AF Form 3211; OMB Number 0701-0146.

Type of Request: Reinstatement.

Number of Respondents: 200.

Responses Per Respondent: 1.

Annual Responses: 200.

Average Burden Per Response: 5 minutes.

Annual Burden Hours: 17.

Needs and Uses: Each guest of Air Force Lodging and its contract lodging operations are provide access to AF Form 3211. The AF Form 3211 gives each guest the opportunity to comment on facilities and services received. Completion and return of the form is optional. The information collection is necessary for Wing leadership to assess the effectiveness of their lodging program. Respondents are authorized guests of Air Force Lodging.

Affected Public: Individuals or Households; Business or Other-For-Profit.

Frequency: On Occasion.

Respondents Obligation: Voluntary.

OMB Desk Officer: Mr. Edward C. Springer. Written comments and recommendations on the proposed information collection should be sent to Mr. Springer at the Office of Management and Budget, Desk Officer for DoD, Room 10236, New Executive Office Building, Washington, DC 20503.

DOD Clearance Officer: Mr. Robert Cushing. Written requests for copies of the information collection proposal should be sent to Mr. Cushing, WHS/DIOR, 1215 Jefferson Davis Highway, Suite 1204, Arlington, VA 22202-4302.

May 25, 2001.
L.M. Bynum,
Alternate OSD Federal Register Liaison Officer, Department of Defense.

[FR Doc. 01-13748 Filed 5-31-01; 8:45 am]

BILLING CODE 5001-08-M